DEPARTMENT OF THE TREASURY

Agency Information Collection Activities; Submission for OMB Review; Comment Request; New Markets Tax Credit Program Application

AGENCY: Departmental Offices, Department of the Treasury.

ACTION: Notice of information collection; request for comment.

SUMMARY: The Department of the Treasury will submit the following information collection request to the Office of Management and Budget (OMB) for review and clearance in accordance with the Paperwork Reduction Act of 1995, on or after the date of publication of this notice. The public is invited to submit comments on this request.

DATES: Comments should be received on or before October 7, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Community Development Financial Institutions Fund (CDFI Fund)

Title: New Markets Tax Credit Program Application.

OMB Control Number: 1559-0016.

Type of Review: Reinstatement of a previously approved collection.

Description: The New Markets Tax Credit (NMTC) Program provides an incentive to investors in the form of a tax credit, which is expected to stimulate investment in private capital that, and in turn, will facilitate economic and community development in low-income communities. To qualify for an allocation of tax credits under the NMTC Program an entity must be certified as a qualified community development entity and submit an allocation application to the CDFI Fund. Upon receipt of such applications, the CDFI Fund will conduct a competitive review process to evaluate applications for the receipt of NMTC allocations. The NMTC Program Application has been updated for CY 2024-2026 based upon the CDFI Fund's review and adjudication of public comments received in response to a Federal Register notice issued on February 23, 2024 (89 FR 13801).

Form: New Markets Tax Credit Allocation Application.

Affected Public: Businesses or other for-profits; State, Tribal or Local Governments.

Estimated Number of Respondents: 197.

Frequency of Response: Annually.

Estimated Total Number of Annual Responses: 197.

Estimated Time per Response: 305 hours.

Estimated Total Annual Burden Hours: 60,121.

Authority: 44 U.S.C. 3501 et seq.

Spencer W. Clark,
Treasury PRA Clearance Officer.

[FR Doc. 2024-19957 Filed 9-4-24; 8:45 am]

BILLING CODE 4810-70-P